OFFICE OF THE UNITED STATES TRADE REPRESENTATIVE

[Docket Number USTR-2024-0002]

Additional Hearings and Extension of Post-Hearing Comment Period: Request for Comments on Promoting Supply Chain Resilience

AGENCY: Office of the United States Trade Representative.

ACTION: Notice of additional public hearings and extension of post-hearing comment period.

SUMMARY: The Office of the United States Trade Representative (USTR) will hold additional public hearings to inform objectives and strategies that advance U.S. supply chain resilience in trade negotiations, enforcement, and other initiatives, and is extending the period for submission of post-hearing comments.

DATES: You must submit comments and responses in accordance with the following schedule:

April 24, 2024: Due date for filing requests to appear and a summary of expected testimony at the additional public hearings.

May 14, 2024: USTR will convene a public hearing at the Minnesota Department of Employment and Economic Development, Great Northern Building, Jerome Hill Auditorium, 180 East Fifth Street, St. Paul, MN 55101, beginning at 10:00 a.m.

May 23, 2024: USTR will convene a virtual public hearing beginning at 10:00 a.m.

May 28, 2024: USTR will convene a public hearing in the Ted Weiss Federal Office Building, 30th Floor Conference Center, Conference Room 2, 290 Broadway, New York, NY 10007, beginning at 10:00 a.m.

June 4, 2024: Extended due date for submission of post-hearing written comments in response to testimony provided at any of the four public hearings in this proceeding.

ADDRESSES: USTR strongly prefers electronic submissions made through the Federal eRulemaking Portal: https://www.regulations.gov (Regulations.gov). The instructions for submitting comments are in sections IV and V below. The docket number is USTR-2024-0002. For alternatives to on-line submissions, please contact Sandy McKinzy at (202) 395-9483 in advance of the deadline.

FOR FURTHER INFORMATION CONTACT: Special Counsel Victor Ban at (202) 395-5962 or supplychain@ustr.eop.gov.

SUPPLEMENTARY INFORMATION:

I. Background

On March 7, 2024, USTR requested comments to inform objectives and strategies that advance U.S. supply chain resilience in trade negotiations, enforcement, and other initiatives. In outlining a new trade policy vision promoting resilience, the notice explained that resilient supply chains provide a range of sourcing options; adapt, rebound, and recover with agility following shocks; uphold labor rights and environmental protections; and strengthen the U.S. manufacturing base and workforce. To help achieve these objectives, the notice sought information on developing sector-specific policy tools, strengthening domestic manufacturing and services, collaborating with like-minded trading partners and allies, and measuring resilience, among other topics. The notice also stated that “USTR may arrange regional hearings or meetings subsequent to the public hearing” scheduled to begin on May 2, 2024, at the U.S. International Trade Commission. See 89 FR 16608.

II. Additional Hearing Participation

USTR invites participation at these additional public hearings:

• May 14, 2024: USTR will convene a public hearing at the Minnesota Department of Employment and Economic Development, Great Northern Building, Jerome Hill Auditorium, 180 East Fifth Street, St. Paul, MN 55101, beginning at 10:00 a.m.

• May 23, 2024: USTR will convene a virtual public hearing beginning at 10:00 a.m.

• May 28, 2024: USTR will convene a public hearing in the Ted Weiss Federal Office Building, 30th Floor Conference Center, Conference Room 2, 290 Broadway, New York, NY 10007, beginning at 10:00 a.m.

Any person wishing to testify at one of the additional hearings must submit requests to appear by April 24, 2024. The request to appear at the additional hearings must specify the starting date of the relevant hearing and include a summary of testimony, and may be accompanied by a pre-hearing submission. To allow for possible questions from USTR staff, remarks at the additional hearings may be subject to time limits, to be communicated by USTR to witnesses in advance of the hearings. No witness may offer testimony at more than one public hearing.

Additionally, USTR will permit members of the public to observe remotely both the hearing to be convened by USTR at the U.S. International Trade Commission beginning on May 2, 2024, and the virtual hearing to be convened by USTR beginning on May 23, 2024. Audio and video access to both hearings will be provided at www.ustr.gov/live. Testimony at the hearing to be held at the U.S. International Trade Commission must be delivered in-person, in accordance with the procedures outlined in the initial notice. See 89 FR 16608.

III. Post-Hearing Comments

In light of the additional public hearings, USTR will extend the due date for submission of post-hearing written comments from May 16, 2024, to June 4, 2024.¹ Additionally, although the March 7, 2024 notice (89 FR 16608), specified that only “persons who testified at the public hearing” beginning on May 2, 2024, could submit post-hearing written comments, USTR will permit any person to submit post-hearing comments, so long as the comments respond to testimony provided at any of the four public hearings in this proceeding.

¹ Except for this extension, this notice does not modify any of the deadlines established in the initial notice of March 7, 2024. See 89 FR 16608.

IV. Requirements for Submissions

To be assured of consideration, submit any request to appear at the additional hearings by the April 24, 2024 deadline, and any post-hearing written comments by the June 4, 2024 deadline. All submissions must be in English. USTR strongly encourages submissions via Regulations.gov. The docket number is USTR-2024-0002.

To submit via Regulations.gov, use Docket Number USTR-2024-0002 in the `search for' field on the home page and click `search.' The site will provide a search-results page listing all documents associated with this docket. Find a reference to this notice by selecting `notice' under `document type' in the `refine documents results' section on the left side of the screen and click on the link entitled `comment.' Regulations.gov allows users to make submissions by filling in a `type comment' field, or by attaching a document using the `upload file' field. USTR prefers that you provide submissions in an attached document named according to the following protocol, as appropriate: Commenter Name or Organization_Supply Chain Resilience. If you provide submissions in an attached document, please type `see attached comments' in the `comment' field on the online submission form.

Requests to appear at an additional hearing must include the name, address, email address, and telephone number of the person presenting the testimony in the `type comment' field. Attach a summary of the testimony specifying the relevant additional hearing, and a pre-hearing submission if provided, by attaching a document using the `upload file' field. The file name should include the name of the person who will be presenting the testimony. In addition, please submit a request to appear by email to supplychain@ustr.eop.gov. The subject line of the email must begin with the starting date of the relevant additional hearing in the format `May 14' followed by the name of the person who will be presenting the testimony, and then `Request to Appear'. In the body of the email, include the name, address, email address, and telephone number of the person presenting testimony.

USTR prefers submissions in Microsoft Word (.doc) or Adobe Acrobat (.pdf). If you use an application other than those two, please indicate the name of the application in the `type comment' field.

Please include any information that might appear in a cover letter, exhibits, annexes, or other attachments in the same file as the comment itself, rather than submitting them as separate files.

Please include the name, email address, and telephone number of an individual USTR can contact if there are issues or questions with the submission.

You will receive a tracking number upon completion of the submission procedure at Regulations.gov. The tracking number is confirmation that Regulations.gov received your submission. Keep the confirmation for your records. USTR is not able to provide technical assistance for Regulations.gov.

For further information on using Regulations.gov, please consult the resources provided on the website by clicking on `How to Use Regulations.gov' on the bottom of the home page. You can contact the Regulations.gov help desk at regulationshelpdesk@gsa.gov or 1-866-498-2945 for help with technical questions on submitting comments on Regulations.gov.

If you are unable to submit through Regulations.gov after seeking assistance from the help desk, please contact Sandy McKinzy at (202) 395-9483 before transmitting your document and in advance of the deadline to arrange for an alternative method of transmission. USTR will not accept hand-delivered submissions. USTR may not consider submissions that you do not make in accordance with these instructions.

General information concerning USTR is available at https://www.ustr.gov.

V. Business Confidential Information (BCI) Submissions

If you ask USTR to treat information you submit as BCI, you must certify that the information is business confidential and that you would not customarily release it to the public. For any comments submitted electronically containing BCI, the file name of the business confidential version should begin with the characters `BCI.' You must clearly mark any page containing BCI with `BUSINESS CONFIDENTIAL' on the top of that page. Filers of submissions containing BCI also must submit a public version that will be placed in the docket for public inspection. The file name of the public version should begin with the character `P.' Follow the `BCI' and `P' with the name of the individual or organization submitting the comments.

VI. Public Viewing of Review Submissions

USTR will post written submissions in the docket for public inspection, except properly designated BCI. You can view comments on Regulations.gov by entering Docket Number USTR-2024-0002 in the search field on the home page.

Juan Millan,
Acting General Counsel, Office of the United States Trade Representative.

[FR Doc. 2024-06975 Filed 4-2-24; 8:45 am]

BILLING CODE 3390-F4-P